DEPARTMENT OF COMMERCE

Bureau of Export Administration

[Docket No. 010412092-1149-02]

Public Hearings on Section 232 National Security Investigation of Imports of Iron Ore and Semi-Finished Steel

AGENCY: Bureau of Export Administration, Office of Strategic Industries and Economic Security, Strategic Analysis Division, Department of Commerce.

ACTION: Notice of public hearings on section 232 national security investigation of imports of iron ore and semi-finished steel.

SUMMARY: The Bureau of Export Administration (BXA) is holding public hearings on the investigation that the Department of Commerce initiated, on February 1, 2001, to determine the effects on the national security of imports of iron ore and semi-finished steel. This investigation is being conducted under section 232 of the Trade Expansion Act of 1962, as amended (19 U.S.C. 1862). This notice identifies the issues on which the Department is interested in obtaining the public s views. It also sets forth the procedures for public participation in the hearings.

DATES: The hearings will be held on Thursday, July 5, 2001 at the Virginia High School, Goodman Auditorium, 411 5th Avenue, South, Virginia, MN 55792; on Sunday, July 15, 2001 at the Northern Michigan University, University Center, Michigan Room, 1401 Presque Isle, Marquette, MI 49855; and on Thursday, July 19, 2001 at the Newport Gateway, 19900 MacArthur Boulevard, Suite 300 (Food and Drug Administration Office), Irvine, CA 92612. All hearings will begin at 12 noon local time and conclude at 7 PM local time.

ADDRESSES: Send requests to speak and written summaries of the oral presentations to Brad Botwin, Director, Strategic Analysis Division, Bureau of Export Administration, U.S. Department of Commerce, Room 3876, 14th Street and Pennsylvania Avenue, NW., Washington, DC 20230, by June 25, 2001. Any person, whether presenting or not, may submit a written statement through August 17, 2001; 30 days after the last hearing date.

FOR FURTHER INFORMATION CONTACT: Brad Botwin, Director, Strategic Analysis Division, Bureau of Export Administration, U.S. Department of Commerce, (202) 482-4060, bbotwin@bxa.doc.gov or Michael Vaccaro, Trade and Industry Analyst, Bureau of Export Administration, U.S. Department of Commerce, (202) 482-8232, mvaccaro@bxa.doc.gov. For more information about the section 232 program, including the regulations and the text of previous investigations, see www.doc-bxa.bmpcoe.org under “Programs.”

SUPPLEMENTARY INFORMATION:

Background and Specific Comments Requested

On February 1, 2001, the Department of Commerce initiated an investigation under section 232 of the Trade Expansion Act of 1962, as amended (19 U.S.C. 1862), to determine the effects on the national security of imports of iron ore and semi-finished steel. The findings and recommendations of the investigation are to be reported by the Secretary of Commerce to the President no later than October 29, 2001. For further details on this investigation, see the Federal Register notices of February 6, 2001 (66 FR 9067) and April 18, 2001 (66 FR 19917).

The iron ore and semi-finished steel products subject to this investigation include:

1. Iron Ore

—Briquettes

—Pellets

—Sinter

2. Semi-finished Steel

—Ingots

—Billets

—Blooms

—Slab

Consistent with the interest of the U.S. Department of Commerce in soliciting public comments on issues affecting U.S. industry and national security, BXA is holding public hearings as part of the investigation. The hearings will assist the Department in determining whether imports of iron ore and semi-finished steel threaten to impair the national security and in recommending remedies if such a threat is found to exist.

The Department is particularly interested in comments and information directed to the criteria listed in 15 CFR part 705.4, Effect of Imported Articles on the National Security (“the regulations”), including the following: (a) Quantity of the articles subject to the investigation and other circumstances related to the importation of such articles; (b) Domestic production capacity needed for these articles to meet projected national defense requirements; (c) The capacity of domestic industries to meet projected national defense requirements; (d) Existing and anticipated availability of human resources, products, raw materials, production equipment, facilities, and other supplies and services essential to the national defense; (e) Growth requirements of domestic industries needed to meet national defense requirements and the supplies and services including the investment, exploration and development necessary to assure such growth; (f) The impact of foreign competition on the economic welfare of any domestic industry essential to our national security; (g) The displacement of any domestic products causing substantial unemployment, decrease in the revenues of government, loss of investment or specialized skills and productive capacity, or other serious effects; (h) Relevant factors that are causing or will cause a weakening of our national economy; and (i) Any other relevant factors.

Notice of Public Hearings

The hearings will be held on Thursday, July 5, 2001 at the Virginia High School, Goodman Auditorium, 411 5th Avenue, South, Virginia, MN 55792; on Sunday, July 15, 2001 at the Northern Michigan University's University Center, Michigan Room, 1401 Presque Isle, Marquette, MI 49855; and on Thursday, July 19, 2001 at the Newport Gateway, 19900 MacArthur Boulevard, Suite 300 (Food and Drug Administration Office), Irvine, CA 92612. All hearings will begin at 12 noon local time and conclude at 7 PM local time.

Procedure for Requesting Participation

The Department encourages interested public participants to present their views orally at the hearings. Any person wishing to make an oral presentation at the hearings must submit a written request to the Department of Commerce at the address indicated in the ADDRESSES section of this notice. The request to participate in the hearings must be accompanied by 3 copies of a summary of the oral presentation. The written request and summary must be received by the Department no later than Monday, June 25, 2001. In addition, the request to speak should contain (1) the name and address of the person requesting to make a presentation; (2) a daytime phone number where the person who would be making the oral presentation may be contacted before the hearing; (3) the organization or company they represent; (4) an e-mail address, if available, and (5) the location you will attend to make your presentation.

Please note that the submission of comments for presentation at the public hearings is separate from the request for written comments contained in the February 6, 2001 and April 18, 2001 Federal Register notices. Since it may be necessary to limit the number of persons making presentations, the written request to participate in the public hearing should describe the individual's interest in the hearings and, where appropriate, explain why the individual is a proper representative of a group or class of persons that has such an interest. If all interested parties cannot be accommodated at the hearings, the summaries of the oral presentations will be used to allocate speaking time and to ensure that a full range of comments is heard.

Each person selected to make a presentation will be notified by the Department of Commerce no later than 8 PM EDT on Friday, June 29, 2001. The Department will arrange the presentation times for the speakers. Attendees will be seated on a first-come, first-served basis. Persons selected to be heard are requested to bring 100 copies of their oral presentation and of all exhibits to the hearing site on the day of the hearing. All such material must be of a size consistent with ease of handling, transportation and filing. While large exhibits may be used during a hearing, copies of such exhibits in reduced size must be provided to the panel. Written submissions by persons not selected to make presentations will be made part of the public record of the proceeding. Any person, whether presenting or not, may submit a written statement through August 17, 2001; 30 days after the last hearing date. Confidential business information may not be submitted at a public hearing. In the event confidential business information is submitted it will be handled according to the same procedures applicable to such information provided in the course of an investigation. See 15 CFR 705.6. Each hearing will be stenographically reported. Transcripts of the hearings may be purchased after the hearings have been completed from the Department for actual cost of duplication.

Copies of the requests to participate in the public hearings, and the transcripts of the hearings will be maintained on the Bureau of Export Administration's web page, which can be found at http://www.bxa.doc.gov (see Freedom of Information Act (FOIA) heading). If the requesters cannot access the web site, they may call (202) 482-2165 for assistance. The records related to this assessment are made accessible in accordance with the regulations published in part 4 of title 15 of the Code of Federal Regulations (15 CFR 4.1 et seq.)

Conduct of the Hearing

The Department reserves the right to select the persons to be heard at the hearings, to schedule their respective presentations, and to establish the procedures governing the conduct of the hearing. Each speaker will be limited to 10 minutes, and comments must be directly related to the criteria listed in 15 CFR part 705.4 of the regulations.

A Commerce Department official will be designated to preside at the hearings. The presiding officer shall determine all procedural matters during the hearings. Representatives from the Commerce Department and other U.S. Government agencies will make up the hearing panel. This will be a fact-finding proceeding; it will not be a judicial or evidentiary-type hearing. Only members of the hearing panel may ask questions, and there will be no cross-examination of persons presenting statements. However, questions submitted to the presiding officer in writing may, at the discretion of the presiding officer, be posed to the presenter. No formal rules of evidence will apply to the hearings.

Any further procedural rules for the proper conduct of the hearing will be announced by the presiding officer.

Special Accommodations

These meetings are physically accessible to people with disabilities. Requests for sign language interpretation or other auxiliary aids should be received by the Department of Commerce no later than Friday, June 29, 2001 at the address indicated in the ADDRESSES section of this notice.

Dated: June 8, 2001.
Matthew S. Borman,
Deputy Assistant Secretary for Export Administration.

[FR Doc. 01-15024 Filed 6-13-01; 8:45 am]

BILLING CODE 3510-DT-U